DEPARTMENT OF DEFENSE

Department of the Navy

Notice of Intent To Grant a Partially Exclusive License; Ridgetop Group, Inc.

AGENCY: Department of the Navy, DoD.

ACTION: Notice.

SUMMARY: The Department of the Navy hereby gives notice of its intent to grant to Ridgetop Group, Inc. located at 3580 West Ina Road, Tucson, AZ 85741, a revocable, nonassignable, partially exclusive license in the United States to practice for all fields of use the Government-Owned invention described in U.S. Patent No. 7,626,398: System for Isolating Faults Between Electrical Equipment, Navy Case Number 97027, inventors Quiter et al., issued December 01, 2009.

DATES: Anyone wishing to object to the grant of this license must file written objections along with supporting evidence, if any, not later than August 30, 2013.

ADDRESSES: Written objections are to be filed with the Naval Air Warfare Center Aircraft Division, Technology Transfer Office, Attention Gaetan Mangano, Code 4.0, Highway 547, Building 150-3, Lakehurst, NJ 08733.

FOR FURTHER INFORMATION CONTACT: Dan Swanson, 406-994-7736, dss@montana.edu, TechLink, 2310 University Way, Building 2-2, Bozeman, MT 59715. TechLink is an authorized Department of Defense Partnership Intermediary.

Authority: 35 U.S.C. 207, 37 CFR Part 404.

Dated: August 7, 2013.
C.K. Chiappetta,
Lieutenant Commander, Office of the Judge Advocate General, U.S. Navy, Federal Register Liaison Officer.

[FR Doc. 2013-19803 Filed 8-14-13; 8:45 am]

BILLING CODE 3810-FF-P